DEPARTMENT OF THE INTERIOR

Bureau of Land Management

[WO-880-9500-PF-24-1A; OMB Approval Number 1004-0109]

Extension of Currently Approved Information Collection; Information Collection Submitted to the Office of Management and Budget for Review Under the Paperwork Reduction Act

The proposed renewal for information collection OMB approval number 1004-0109 has been submitted to the Office of Management and Budget (OMB) for approval under the provisions of the Paperwork Reduction Act (44 U.S.C. 3501 et seq.). On January 24, 2000, BLM published a notice in the Federal Register (65 FR 3731) requesting comments on this information collection. The comment period ended on March 24, 2000. BLM received no comments from the public in response to that notice. Copies of the information collection and related forms may be obtained by contacting the BLM information clearance officer at the telephone number listed below.

OMB is required to respond to this request within 60 days but may respond after 30 days. For maximum consideration, you comments and suggestions on the requirement should be made within 30 days directly to the Office of Management and Budget, Interior Department Desk Officer (1004-0109), Office of Information and Regulatory Affairs, Washington, DC 20503. Please provide a copy of your comments to the Bureau Information Clearance Officer (WO-630), 1849 C Street, NW, Mail Stop 401LS, Washington, DC 20240.

Nature of Comments: We specifically request your comments on the following:

1. Whether the collection information is necessary for the proper functioning of BLM, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical, or other forms of information technology.

Title: Statement of Federal Land Payments (43 CFR 1881). OMB approval number 1004-0109.

Abstract: The BLM is proposing to renew the approval of an information collection for 43 CFR 1881. This allows BLM to collect information that is statutorily required to compute payments due units of general local government under the PILT Act. The Act requires the governor of each State to furnish a statement as to the amounts paid to units of general local government under 11 receipt sharing statutes in the prior fiscal year.

Bureau Form Number: None.

Frequency: Annually.

Description of Respondents: Respondents are State governments.

Estimated completion time: 20 hours.

Annual Responses: 50.

Annual Burden Hours: 1,000.

Information Clearance Officer: Carole Smith, (202) 452-0367.

Dated: March 27, 2000.
Carole Smith,
Bureau of Land Management, Information Clearance Officer.

[FR Doc. 00-9177 Filed 4-12-00; 8:45 am]

BILLING CODE 4310-84-M